DEPARTMENT OF HEALTH AND HUMAN SERVICES

Administration for Children and Families

[Program Notice No. ACF/ACYF/RHYP 2000-01]

Notice of Availability of Financial Assistance for the Runaway and Homeless Youth Programs; Republication

Editorial Note: FR-Doc.00-12376 was originally published at 65 FR 31338-31343, Wednesday, May 17, 2000. Due to printing errors it is being republished in its entirety.

AGENCY: Family and Youth Services Bureau, Administration on Children, Youth and Families, ACF, HHS.

ACTION: This notice announces the availability of financial assistance for FY 2000 Basic Center Program for Runaway and Homeless Youth (BCP), FY 2001 Transitional Living Program (TLP), FY 2000 Street Outreach Program (SOP), and the FY 2000 Youth Development State Collaboration Demonstration Projects (SCDP).

This Notice announces the availability of the official FY 2000 Program Announcement. The official announcement must be used to apply for grant funding under the competitive grant areas and is available by calling or writing the ACYF Operations Center (address below) or by downloading the announcement from the FYSB website at http://www.acf.dhhs.gov/programs/FYSB under Policy and Funding Announcements.

Legislative Authority: Grants for Runaway and Homeless Youth programs are authorized by the Runaway and Homeless Youth Act (RHY Act) as amended by PL 106-71.

Deadlines

The deadlines for receipt of applications for new grants under this announcement are as follows:

CFDA# | Programs | Deadline dates | Deadline times
93.623 | Basic Center Program | July 3, 2000 | 4:30 p.m. (EDT).
93.557 | Street Outreach Program | July 3, 2000 | 4:30 p.m. (EDT).
93.550 | Transitional Living Program | July 7, 2000 | 4:30 p.m. (EDT).
93.623 | State Collaboration
| Demonstration Projects | August 3, 2000 | 4:30 p.m. (EDT).

Mailing and Delivery Instructions: Applications must be in hard copy. Mailed applications and applications hand delivered by applicants, applicant couriers, overnight/express mail couriers or any other method of hand delivery shall be considered as meeting an announced deadline if they are received on or before the deadline, at the following address: ACYF Operations Center, 1815 North Fort Myer Drive, Suite 300, Arllington, VA 22209, telephone: 1-800-351-2293, email: FYSB@lcgnet.com.

Applications may be hand delivered to the above address between the hours of 8:00 a.m. and 4:30 p.m. (EDT), Monday through Friday (excluding Federal Holidays).

Applicants are responsible for mailing and delivering applications well in advance of deadlines to ensure that the applications are received on time. Applications received after 4:30 p.m. (EDT) on the deadline date will be classified as late. Postmarks and other similar documents do not establish receipt of an application.

ACF will not accept applications delivered by fax or e-mail regardless of date or time of submission and receipt.

Late Applications: Applications which do not meet the criteria stated above and are not received by the deadline date and time are considered late applications. The Administration for Children and Families (ACF) will notify each late applicant that its application will not be considered in the current competition.

Extension of Deadline: ACF may extend an application deadline for applicants affected by acts of God such as floods and hurricanes, or when there is widespread disruption of the mails. A determination to waive or extend deadline requirements rests with the Chief Grants Management Officer.

SUPPLEMENTARY INFORMATION: Grant awards for FY 2000 funds will be made by September 30, 2000 for the Basic Center and Street Outreach Program. Transitional Living Program grant awards for FY 2001 will be made after September 30, 2000. Grant awards for the Youth Development State Collaboration Demonstration Projects will be made by September 30, 2000, based on the availability of funds. If funds are not available for the State Collaboration Projects on September 30, 2000, we anticipate that successful applicants will be awarded funding during the second quarter of FY 2001 (January, February, and March, 2001).

The estimated funds available for new starts and the approximate number of new grants that may be awarded under this program announcement are as follows:

Competitive grant area | New start funds available | Estimated number of new grants
A. BCP | $14,500,000 | 126
B. TLP | 5,500,000 | 32
C SOP | 5,900,000 | 59
D. * SCDP | 600,000 | 5
* Subject to availability of funds

In addition to the new start grants, the Administration for Children and Families has provided for noncompetitive continuation funds to current grantees in the following programs:

Grant area | Funds available | Number of grants
A. BCP | $24,700,000 | 222
B. TLP | 13,000,000 | 73
C. SOP | 7,600,000 | 80
D. SCDP | 1,000,000 | 9

Part 1. Competitive Grant Areas and Summaries of Evaluation Criteria

Applicants must refer to the specific evaluation criteria for each competitive area contained in the official Program Announcement in order to adequately prepare their applications.

A. Basic Centers Program, CFDA# 93.623 (Competitive Grant Area A)

Eligible Applicants: Any State, unit of local government, combination of units of local government, public or private nonprofit agency, organization or institution is eligible to apply for these funds. Federally recognized Indian Tribes are eligible to apply for Basic Center grants. Indian Tribes that are not federally recognized and urban Indian organizations are also eligible to apply for grants as private, nonprofit agencies.

Current Basic Center grantees with project periods ending on or before September 30, 2000, and all other eligible applicants not currently receiving Basic Center funds may apply for a new competitive Basic Center grant under this announcement.

Current Basic Center Program grantees (including subgrantees) with one or two years remaining on their current grant and the expectation of continuation funding in FY 2000 may not apply for a new Basic Center grant for the community they currently serve. These grantees will receive instructions from their respective ACF Regional Offices on the procedures for applying for noncompetitive continuation grants.

Program Purpose, Goals and Objectives: The purpose of this program is to establish or strengthen locally-controlled, community-based programs that address the immediate needs of runaway and homeless youth and their families. Services must be delivered outside of the law enforcement, child welfare, mental health and juvenile justice systems. The program goals and objectives of the Basic Center Program are to:

• Alleviate problems of runaway and homeless youth;

• Reunite youth with their families and encourage the resolution of intrafamily problems through counseling and other services;

• Strengthen family relationships and encourage stable living conditions for youth; and

• Help youth decide upon constructive courses of action.

Federal Share of Project Costs: Priority will be given to applicants that apply for less than $200,000 per year. The maximum Federal share for a 3-year project period $600,000.

Applicant Share of Project Costs: Basic Center grantees must provide a non-Federal share or match of at least ten percent of the Federal funds awarded. (There are certain exceptions for Tribes with “638” funding pursuant to Pub. L. 93-638, under which certain Federal grants may qualify as matching funds for other Federal grant programs, e.g., those which contribute to the purposes for which grants under section 638 were made.) The non-Federal share may be met by cash or in-kind contributions, although applicants are encouraged to meet their match requirements through cash contributions. Therefore, a three-year project costing $300,000 in Federal funds (based on an award of $100,000 per 12-month budget period) must include a match of at least $30,000 (10,000 per budget period).

Duration of Project: This announcement solicits applications for Basic Center programs of up to three years duration (36-month project periods). Initial grant awards, made on a competitive basis, will be for one-year (12-month) budget periods. Applications for non-competitive continuation grants beyond the one-year budget periods, but within the 36-month project periods, will be entertained in subsequent years, subject to the availability of funds, satisfactory progress of the grantee and determination that continued funding would be in the best interest of the government.

B. Transitional Living Program, CFDA #93.550 (Competitive Grant Area B)

Eligible Applicants: Any State, unit of local government (or a combination of units of local government), public or private nonprofit agency, organization, institution or other nonprofit entity. Federally recognized Indian Tribes are eligible to apply for TLP grants. Indian Tribes that are not federally recognized and urban Indian organizations are also eligible to apply for grants as private, nonprofit agencies.

Current TLP grantees with project periods ending on or before September 30, 2001, and all other eligible applicant not currently receiving TLP funds may apply for a new competitive TLP grant under this announcement for awards in FY 2001.

Current TLP grantees (including subgrantees) with one or two years remaining on their current awards and the expectation of continuation funding in Fiscal Year 2001 may not apply for a new TLP grant under this announcement. These grantees will receive instructions from their respective ACF Region/Hub Offices on the procedures for applying for non-competitive continuation grants.

Program Purpose, Goals and Objectives: The overall purpose of TLP for homeless youth is to establish and operate transitional living projects for homeless youth. This program is structured to help older, homeless youth achieve self-sufficiency and avoid long-term dependency on social services. Transitional living projects provide shelter, skills training, and support services to homeless youth ages 16 through 21 for a continuous period not exceeding 18 months. Transitional Living Program funds are to be used for the purpose of enhancing the capacities of youth-serving agencies in local communities to effectively address the service needs of homeless, older adolescents and young adults.

Federal Share of Project Costs: Applicants may apply for up to $200,000 per year, which equals a maximum of $600,000 for a 3-year project period.

Applicant Share of Project Cost: Transitional Living grantees provide a non-Federal share or match of at least ten percent of the Federal funds awarded. (There are certain exceptions for Tribes with “638” funding pursuant to P.L. 93-638, under which certain Federal grants may qualify as matching funds for other Federal grant programs, e.g., those which contribute to the purposes for which grants under section 638 were made.) the non-Federal share may be met by cash or in-kind contributions, although applicants are encouraged to meet their match requirements through cash contributions. Therefore, a three-year project costing $300,000 in Federal funds (based on an award of $100,000 per 12-month budget period) must include a match of at least $30,00 ($10,000 per budget period).

Duration of Project: This announcement solicits applications for Transitional Living projects of up to three years (36-month project periods). Initial grant awards, made on a competitive basis, will be for one-year (12-month) budget periods. Applications for non-competing continuation grants beyond the one-year budget periods, but within the 36-month project periods, will be entertained in subsequent years, subject to the availability of funds, satisfactory progress of the grantee and determination that continued funding would be in the best interest of the government.

C. Street Outreach Program, CFDA# 93.557 (Competitive Grant Area C)

Eligible Applicants: Any private, nonprofit agency is eligible to apply for these funds. Non-Federally recognized Indian Tribes and urban Indian organizations are eligible to apply for grants as private, non-profit agencies. Please note that public agencies are not eligible to apply for these funds.

Current Street Outreach Program grantees with project periods ending on or before September 30, 2000, and all other eligible applicants not currently receiving SOP funds may apply for a new competitive SOP grant under this announcement.

Current Street Outreach Program grantees (including subgrantees) with one or two years remaining on their current grant and the expectation of continuation funding in FY 2000 may not apply for a new Street Outreach grant for the community they currently serve. These grantees will receive instructions from their respective ACF Regional Offices on the procedures for applying for continuation grants.

Program Purpose, Goals and Objectives: The overall purpose of SOP is to provide education and prevention services to runaway, homeless and street youth who have been subjected to or are at risk of sexual exploitation or abuse. The goal of the program is to establish and build relationships between street youth and program outreach staff in order to help youth leave the streets. The objective of the program is to provide support services that will assist the youth in moving an adjusting to a safe and appropriate alternative living arrangement. These services include, at a minimum, treatment, counseling, provision of information and referral services. Street outreach programs must have access to local emergency shelter space that is an appropriate placement for young people and that can be made available for youth willing to come in off the streets. In addition, street outreach staff must have access to the shelter in order to maintain interaction with the youth during the time they are in the shelter.

Federal Share of Project Costs: Applicants may apply for up to $100,000 in Federal support each year, a maximum of $300,00 for a 3-year project period. The maximum Federal share of project costs is $100,000 for 12 months.

Applicants Share of Project Cost: SOP grantees must provide a non-Federal share or match of at least ten percent of the Federal funds awarded. (There are certain exceptions for Tribes with “638” funding pursuant to P.L. 93-638, under which certain Federal grants may qualify as matching funds for other Federal grant programs, e.g., those which contribute to the purposes for which grants under section 638 were made.) The non-Federal share may be met by cash or in-kind contributions, although applicants are encouraged to meet their match requirements through cash contributions. For example, a project requesting $100,000 in Federal funds must include a match of at least $10,000.

Duration of Project: This announcement solicits applications for Street Outreach Program projects of up to three years (36-month project periods). Initial grant awards, made on a competitive basis, will be for one-year (12-month) budget periods. Applications for non-competing continuation grants beyond the one-year budget periods, but within the 36-month project periods, will be considered subject to the availability of funds, satisfactory progress of the grantee and determination that continued funding would be in the best interest of the government.

Summary of Evaluation Criteria for Competitive Areas A, B, and C (BCP, TLP, and SOP)

Criterion 1: Objectives and Need for Assistance (15 Points)

Applications will be judged on how clearly they identify the physical, economic, social, financial, institutional, and/or other problem(s) requiring a solution. The need for assistance must be demonstrated and the principal and subordinate objectives of the project must be clearly stated. Applications will need to specify the goals and objectives of the project and how implementation will fulfill the purposes of the program. Applications should describe the conditions of youth and families in the area to be served; the incidence and characteristics of runaway, homeless or street youth and their families; the existing support systems for at-risk youth and families in the area, including other agencies providing services to runaway and homeless youth in the area.

Applicants must refer to the specific evaluation criteria for each competitive area contained in the full Program Announcement in order to adequately prepare their applications.

Criterion 2: Results or Benefits Excepted (20 Points)

Applications will be judged on how clearly they identify the results and benefits to be derived, specify services to be provided, who will receive services, where and how these services will be provided, and how the services will benefit the youth families and the community to be served. Applicants must refer to the specific evaluation criteria for each competitive area contained in the full Program Announcement in order to adequately prepare their applications.

Criterion 3: Approach (35 Points)

Applications will be judged on how clearly they outline a plan of action which: describes the scope and detail of how the proposed work will be accomplished; accounts for all functions or activities identified in the application; cites factors which might accelerate or decelerate the work and reasons for taking the proposed approached rather than others. Applications are encouraged to describe any unusual features of the project such as design or technological innovations, reductions in cost or time, or extraordinary social and community involvement.

Applications will be expected to provide quantitative monthly or quarterly projections of the accomplishments to be achieved for each function or activity in such terms as the number of youth to be served and the results of those services, including data required for annual reporting to the Secretary of HHS. Applicants must agree to cooperate with any research or evaluation efforts sponsored by the Administration for Children and Families and to submit the required Annual Report to the Secretary of HHS on program activities and accomplishments with statistical summaries and other required program and financial reports, as instructed by FYSB.

Applications will be judged on the extent to which they described the program's youth development approach or philosophy and indicate how it underlies and integrates all proposed activities. Applicants will be expected to list organizations, cooperating entities, consultants, or other key individuals who will work on the project along with a short description of the nature of their effort or contribution; describe formal service linkages and plans for coordination with other agencies; describe plans for conducting outreach and encouraging awareness of and sensitivity to the diverse needs of runaway and homeless youth who represent particular ethnic and racial backgrounds and sexual orientations. Applicants are encouraged to describe the type, capacity and staff supervision of the shelter that will be available for youth.

Applicants must refer to the specific evaluation criteria for each competitive area contained in the full Program Announcement in order to adequately prepare their applications.

Criterion 4: Staff and Position Data (10 Points)

Applicants will be judged on whether they provide a resume and biographical sketch for each key person appointed and a job description for each vacant key position. A biographical sketch will also be required for new key staff as appointed. Applicants will be expected to list organizations and consultants who will work on the program along with a short description of the nature of their effort or contribution.

Applicants will be expected to provide information on plans for training project staff as well as staff of cooperating organizations and individuals and state the expected or estimated ratio of staff to youth.

Applicants must refer to the specific evaluation criteria for each competitive area contained in the full Program Announcement in order to adequately prepare their applications.

Criterion 5: Organization Profile (10 Points Plus 5 Possible Bonus Points)

Applicants will be expected to provide information on the applicant organization(s) and cooperating partners such as organizational charts, financial statements, audit reports or statements from CPAs/Licensed Public Accounts. Any non-profit organization submitting an application must submit of its non-profit status in its application at the time of submission. Bonus points shall be awarded to applicant organizations who have demonstrated experience in providing services to runaway, homeless and street youth.

Applicants will be expected to provide a plan for project continuance beyond grant support, including a plan for securing resources and continuing project activities after Federal assistance has ceased and an annotated listing of applicant's funding sources. Such plans should include written agreements, if applicable, between grantees and subgrantees or subcontractors or other cooperating and letters of support and statements from community, public and commercial leaders that support the project proposed for funding.

Applicants must refer to the specific evaluation criteria for each competitive area contained in the full Program Announcement in order to adequately prepare their applications.

Criterion 6: Budget and Budget Justification (10 Points)

Applicants will be expected to provide a detailed line item budget and a narrative budget justification that describes how the categorical costs are derived. Applicants will be judged on how clearly they discuss the necessity, reasonableness, and allocability of the proposed costs and how clearly they describe the fiscal control and accounting procedures that will be used to ensure prudent use, proper disbursement and accurate accounting of funds received.

Applicants must refer to the specific evaluation criteria for each competitive area contained in the full Program Announcement in order to adequately prepare their applications.

D. Youth Development State Collaboration Demonstration Projects, CFD #93.623 (Competitive Grant Area D)

Eligible Applicants: Any State or Federally recognized Indian Tribe is eligible to apply for a Youth Development State Collaboration Demonstration Project grant. Only one application may be submitted by any State or Tribe. Preference will be given to State or Tribal applicants in regions IV, V, and VI, since there are no States or Tribes in these regions currently involved in the collaboration project. The States in these regions are: Region IV: Al, FL, GA, KY, MS, NC, SC, TN; Region V: IL, IN, MI, MN, OH, WI; Region VI: AR, LA, NM, OK, TX.

Program Purpose, Goals and Objectives: The objectives of the Youth Development State Collaboration Demonstration Projects are to facilitate the development of State or Tribal policies and initiatives that help communities support a youth development approach; to encourage collaboration among the State or Tribal agencies that address the needs and issues for adolescents; to promote and facilitate communication and coordination between the State or Tribe and youth serving agencies, including FYSB grantees; and to promote collaborative efforts among the State or Tribe, FYSB, and community-based, youth-serving organization.

Federal Share of Project Costs: Applicants may apply for up to $120,000 in Federal support each year which equals a maximum of $360,000 for a 3-year period.

Applicant Share of Project Costs: The applicant is required to provide a minimum of 25 percent of the total approved cost of the project. (There are certain exceptions for Tribes with “638” funding pursuant to P.L. 93-638, under which certain Federal grants may qualify as matching funds for other Federal grant programs, e.g., those which contribute to the purposes for which grants under section 638 were made.) The total approved cost of the project is the sum of the Federal share and the applicant share of the project. For example, an applicant requesting $120,000 must match the federal funds with a non-Federal share of at least $40,000.

Duration of Project: This announcement solicits applications for Youth Development State Collaboration Demonstration Projects of up to three years (36-month project periods). Grant awards, made on a national competitive basis, will be for a one-year (12-month) budget period. Applications for continuation grants beyond the one-year budget period, but within the longer term project period, will be entertained in subsequent years on a non-competitive basis, subject to the availability of funds, satisfactory progress of the grantee and determination that continued funding would be in the interest of the government.

Summary of Evaluation Criteria for Competitive Area D (SCDP)

Criterion 1: Objectives and Need for Assistance (15 Points)

Applications will be judged on how clearly they specify the goals and objectives to be addressed through the Youth Development State Collaboration Demonstration Project and how these objectives are relevant to youth-related needs within the State or Tribal jurisdiction. For the purpose of this project, youth are defined as individuals between the ages of 10-24.

Applicants are expected to discuss the State's or Tribe's current framework of philosophy for addressing youth issues, including how that framework is reflected in policies and existing youth services. Applicants are expected to describe any youth development activities that are currently in place at the State or Tribal level, how those activities affect local youth services and the need for further efforts in this area. Applicants should discuss the extent of current coordination among State or Tribal agencies and programs on youth issues and existing coordination with local youth service providers, as well as the need for additional collaboration.

Applicants should describe the ability to leverage strong commitment and support at the executive level for this project.

Applicants must refer to the specific evaluation criteria for each competitive area contained in the full Program Announcement in order to adequately prepare their applications.

Criterion 2: Results or Benefits Expected (20 Points)

Applications will be judged on the extent to which they clearly describe interim and final results and benefits expected of this project, especially in regard to support of youth development and coordination around youth issues and services, including changes in policies, processes, programs and initiatives resulting from this grant, how these changes will be implemented, and the expected legislative, programmatic or administrative results.

Applicants are expected to describe planned results of efforts to strengthen and/or establish effective communication and collaboration and how these will enhance services to young people, providing concrete examples of desired changes in local services and State or Tribal policy making processes.

Applicants must refer to the specific evaluation criteria for each competitive area contained in the full Program Announcement in order to adequately prepare their applications.

Criteria 3: Approach (35 Points)

Applications will be judged on how clearly they outline a plan of action which describes the scope and detail of how the proposed work will be accomplished; accounts for all functions or activities identified in the application; includes information that clarifies the activities that will be undertaken to introduce and support a youth development approach at the State or Tribal and local levels; cites factors which might accelerate or decelerate the work and reasons for taking the proposed approach rather than others; describes any unusual features of the project such as design or technological innovations, reductions in cost or time, or extraordinary social and community involvement.

Applicants are expected to discuss legislative, administrative and judicial factors that may be barriers to increased collaboration and the establishment and support of a youth development approach and should describe plans to address and overcome these barriers. Applicants are expected to clearly identify a State or Tribal Youth Development Coordinator who will be responsible for activities under this grant and must also identify where the project will be located organizationally.

Applications will be judged on how clearly they explain the methodology that will be used for interim and final evaluation of the project.

Applicants must refer to the specific evaluation criteria for each competitive area contained in the full Program Announcement in order to adequately prepare their applications.

Criterion 4: Staff and Position Data (10 Points)

Applicants are expected to provide a resume and biographical sketch for each key person appointed and a job description for each vacant key position. A biographical sketch will also be required for new key staff as appointed.

Applications should demonstrate sufficient personnel resources and staff competence to assure that project activities can be successfully carried out and list each consultant, or key individuals who will work on the project.

Applicants must refer to the specific evaluation criteria for each competitive area contained in the full Program Announcement in order to adequately prepare their applications.

Criterion 5: Organization Profile (10 Points Plus 5 Possible Bonus Points)

Applicants are expected to provide information on the applicant organization(s) and cooperating partners, including information such as organization charts, along with a brief description of the nature of their contribution and knowledge of and experience with youth development, youth issues and youth and family services.

Applicants must refer to the specific evaluation criteria for each competitive area contained in the full Program Announcement in order to adequately prepare their applications.

Criterion 6: Budget and Budget Justification (10 Points)

Applicants are expected to provide a detailed line item budget and a narrative budget justification that described how the categorical costs are derived; discusses the necessity, reasonableness, and allocability of the proposed costs; and discusses and justifies the costs of the proposed project in terms of types and quantities of activities to be implemented and the anticipated results and benefits.

Applicants are expected to describe the fiscal control and accounting procedures that will be used to ensure the prudent use, proper disbursement and accurate accounting of funds received under this program announcement.

Applicants must refer to the specific evaluation criteria for each competitive area contained in the full Program Announcement in order to adequately prepare their applications.

Part 2. Required Notification of the Single Point of Contact

Most portions of this program are covered under Executive Order 12372, Intergovernmental Review of Federal Programs, and 45 CFR part 100, Intergovernmental Review of Department of Health and Human Services Program and Activities. Under the Order, States may design their own processes for reviewing and commenting on proposed Federal assistance under covered programs.

All States Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, Washington, and American Samoa have elected to participate in the Executive Order process and have established Single Points of Contact (SPOCs). Applicants from these twenty-three jurisdictions need take no action regarding E.O. 12372. Applicants for projects to be administered by Federally-recognized Indian Tribes are also exempt from the requirements of E.O. 12372. Otherwise, applicant should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Application for Federal Assistance, Standard Form 424, item 16.

Under 45 CFR 100.8(a)(2), a SPOC has 60 days from the application deadline to comment on proposed new or competing continuation awards. A list of the Single Points of Contact for each State and Territory can be found on the web site http://www.whitehouse.gov/omb/grants/spoc.html. or by calling the ACYF Operations Center at 1-800-351-2293.

Dated: May 12, 2000.
James A. Harrell,
Deputy Commissioner, Administration on Children, Youth, and Families.

[FR Doc. 00-12376 Filed 5-16-00; 8:45 am]

BILLING CODE 4184-01-M

Editorial Note: FR-Doc.00-12376 was originally published at 65 FR 31338-31343, Wednesday, May 17, 2000. Due to printing errors it is being republished in its entirety.

[FR Doc. R0-12376 Filed 5-30-00; 8:45 am]

BILLING CODE 1505-01-S